DEPARTMENT OF VETERANS AFFAIRS

Special Medical Advisory Group; Notice of Meeting

As required by the Federal Advisory Committee Act, VA hereby gives notice that the Special Medical Advisory Group has scheduled a meeting on September 12, 2001. The meeting will convene at 9 a.m. and end at 2 p.m. The meeting will be held in Room 830 at VA Central Office, 810 Vermont Avenue, N.W., Washington, D.C. The purpose of the meeting is to advise the Secretary and Under Secretary for Health relative to the care and treatment of disabled veterans, and other matters pertinent to the Department's Veterans Health Administration (VHA).

The agenda for the meeting will include an update on VHA Communication Plans; Capital Asset Realignment for Enhanced Services (CARES) update; Graduation Medical Education update; and an overview on the Mental Health Program.

All sessions will be open to the public. Those wishing to attend should contact Celestine Brockington, Office of the Under Secretary for Health, Department of Veterans Affairs at (202) 273-5878.

Dated: August 23, 2001.
By direction of the Secretary of Veterans Affairs.
Nora E. Egan,
Committee Management Officer.

[FR Doc. 01-21804 Filed 8-28-01; 8:45 am]

BILLING CODE 8320-01-M